DEPARTMENT OF COMMERCE

International Trade Administration

[A-570-121]

Difluoromethane From the People's Republic of China: Final Results of Antidumping Duty Administrative Review and Partial Rescission; 2020-2022

AGENCY: Enforcement and Compliance, International Trade Administration, Department of Commerce.

SUMMARY: The U.S. Department of Commerce (Commerce) determines that the sole mandatory respondent under review, Taizhou Qingsong Refrigerant New Material Co., Ltd./Taixing Meilan New Materials Co., Ltd. (collectively, Qingsong), made sales of subject merchandise at prices below normal value during the period of review (POR) August 27, 2020, through February 28, 2022. Additionally, we are rescinding this review with respect to Zhejiang Sanmei Chemical Ind. Co., Ltd. (Zhejiang Sanmei).

DATES: Applicable October 12, 2023.

FOR FURTHER INFORMATION CONTACT: Paul Gill, AD/CVD Operations, Office IX, Enforcement and Compliance, International Trade Administration, U.S. Department of Commerce, 1401 Constitution Avenue NW, Washington, DC 20230; telephone: (202) 482-5673.

SUPPLEMENTARY INFORMATION:

Background

On April 6, 2023, Commerce published the Preliminary Results.¹ On June 30, 2023, we extended the deadline for these final results to October 3, 2023.² For a complete description of the events that occurred subsequent to the Preliminary Results, see the Issues and Decision Memorandum.³ Commerce conducted this review in accordance with section 751(a) of the Tariff Act of 1930, as amended (the Act).

¹ See Difluoromethane from the People's Republic of China: Preliminary Results of Antidumping Duty Administrative Review, Partial Rescission, and Preliminary Intent to Rescind, in Part, of Antidumping Duty Administrative Review; 2020-2022, 88 FR 20473 (April 6, 2023) (Preliminary Results), and accompanying Preliminary Decision Memorandum.

² See Memorandum, “Extension of Deadline for Final Results,” dated June 30, 2023.

³ See Memorandum, “Issues and Decision Memorandum for the Final Results of the Antidumping Duty Administrative Review of Difluoromethane from the People's Republic of China; 2020-2022,” dated concurrently with, and hereby adopted by, this notice (Issues and Decision Memorandum).

Scope of the Order ⁴

⁴ See Difluoromethane (R-32) from the People's Republic of China: Antidumping Duty Order, 86 FR 13886 (March 11, 2021) (Order).

The merchandise covered by the Order is difluoromethane (R-32), or its chemical equivalent, regardless of form, type, or purity level.⁵ R-32 is classified under Harmonized Tariff Schedule of the United States (HTSUS) subheading 2903.39.2035. Other merchandise subject to the scope may be classified under 2903.39.2045 and 3824.78.0020. While HTSUS subheadings are provided for convenience and customs purposes, the written description of the subject merchandise is dispositive.

⁵ For a complete description of the scope of the Order, see Preliminary Decision Memorandum.

Analysis of Comments Received

We addressed all the issues raised in the case and rebuttal briefs in the Issues and Decision Memorandum. A list of the issues that parties raised is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we made certain changes to the margin calculations for Qingsong.⁶

⁶ For a full description of these changes, see Issues and Decision Memorandum.

Partial Rescission

In the Preliminary Results, we notified parties of our intent to rescind this administrative review for Zhejiang Sanmei because it did not have any reviewable entries during the POR.⁷ Because we continue to find that the record does not contain any evidence of reviewable entries for Zhejiang Sanmei, we are rescinding this review with respect to Zhejiang Sanmei in accordance with 19 CFR 351.213(d)(3).

⁷ See Preliminary Results, 88 FR 20487.

Final Results of Review

As a result of this review, we are assigning the following dumping margin to the respondent for the period August 27, 2020, through February 28, 2022:

Exporter | Dumping margin (percent)
Taizhou Qingsong Refrigerant New Material Co., Ltd.; Taixing Meilan New Materials Co., Ltd | 145.23

Disclosure

Commerce intends to disclose the calculations performed in connection with these final results to interested parties within five days of the date of publication of this notice, in accordance with 19 CFR 351.224(b).

Assessment Rates

Pursuant to section 751(a)(2)(C) of the Act and 19 CFR 351.212(b), Commerce determined, and U.S. Customs and Border Protection (CBP) shall assess, antidumping duties on all appropriate entries of subject merchandise in accordance with the final results of this review. Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

Pursuant to Commerce's assessment practice,⁸ for entries that were not reported in the U.S. sales data submitted by Qingsong, we will instruct CBP to liquidate such entries at the China-wide rate. For Zhejiang Sanmei, the respondent for which we are rescinding the administrative review, antidumping duties shall be assessed at rates equal to the cash deposit of estimated antidumping duties required at the time of entry, or withdrawal from warehouse, for consumption, during the POR, in accordance with 19 CFR 351.212(c)(1)(i).

⁸ See Non-Market Economy Antidumping Proceedings: Assessment of Antidumping Duties, 76 FR 65694 (October 24, 2011), for a full discussion of this practice.

Cash Deposit Requirements

The following cash deposit requirements will be effective upon publication of the final results of administrative review for all shipments of subject merchandise entered, or withdrawn from warehouse, for consumption on, or after, the publication date of the final results of review, as provided for by section 751(a)(2)(C) of the Act: (1) the cash deposit rate for Qingsong will be equal to the dumping margin established in the final results of this review; (2) for a previously investigated or reviewed exporter of subject merchandise not listed in the final results of review that has a separate rate, the cash deposit rate will continue to be the exporter's existing cash deposit rate; (3) for all Chinese exporters of subject merchandise that do not have a separate rate, the cash deposit rate will be the cash deposit rate established for the China-wide entity, 221.06 percent; ⁹ and (4) for all exporters of subject merchandise that are not located in China and that are not eligible for a separate rate, the cash deposit rate will be the rate applicable to the China exporter(s) that supplied that non-Chinese exporter. These deposit requirements, when imposed, shall remain in effect until further notice.

⁹ See Order, 86 FR at 13886.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order

This notice also serves as the final reminder to parties subject to administrative protective order (APO) of their responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing these final results of administrative review and notice in accordance with sections 751(a)(1) and 777(i) of the Act, and 19 CFR 351.221(b)(5).

Dated: October 3, 2023.
Lisa W. Wang,
Assistant Secretary for Enforcement and Compliance.

Appendix—List of Topics Discussed in the Issues and Decision Memorandum

I. Summary

II. Background

III. Margin Calculations

IV. Discussion of the Issues

Comment 1: Selection of Surrogate Country and Surrogate Values

Comment 2: Whether To Apply Partial Adverse Facts Available (AFA) to Qingsong's Energy Factors of Production (FOPs)

Comment 3: Whether To Grant a By-Product Offset to Qingsong

Comment 4: Whether to Account for Qingsong's Bank Charges

Comment 5: Whether Zhejiang Sanmei Chemical Industries Co., Ltd. (Zhejiang Sanmei) is Part of the China-Wide Entity

V. Recommendation

[FR Doc. 2023-22451 Filed 10-11-23; 8:45 am]

BILLING CODE 3510-DS-P